ENVIRONMENTAL PROTECTION AGENCY

[FRL-9697-3]

Notice of the Peer Review Meeting for EPA's Draft Report Entitled An Assessment of Potential Mining Impacts on Salmon Ecosystems of Bristol Bay, AK

AGENCY: U.S. Environmental Protection Agency (EPA).

ACTION: Notice of external peer review meeting.

SUMMARY: The U.S. Environmental Protection Agency (EPA) is announcing that Versar, Inc., an EPA contractor for external peer review, has convened a panel of experts and will organize and conduct an independent expert external peer review meeting on August 7-9, 2012, to review the draft report entitled An Assessment of Potential Mining Impacts on Salmon Ecosystems of Bristol Bay, Alaska. Versar, Inc. invites the public to register to attend the first two days of this meeting as observers. In addition, Versar, Inc. invites the public to register to provide oral testimony during Day 1 (August 7, 2012) of the external peer review meeting. The panel will meet privately on Day 3 (August 9, 2012) of the meeting. The expert panel is charged with reviewing the scientific and technical merit of the draft assessment. The panel will not be making recommendations to the EPA concerning any potential future actions or policies. Therefore, the peer review meeting will focus on issues of science relevant to the assessment, rather than its policy implications. The panel will have access to public comments received in the official public docket (docket ID number EPA-HQ-ORD-2012-0276) during the assessment's public comment period, as well as oral comments made on Day 1 of the peer review meeting. The draft assessment is available through www.regulations.gov and at www.epa.gov/bristolbay. In preparing the final assessment, EPA will consider Versar, Inc.'s report of the comments and recommendations from the external peer review meeting, as well as written public comments received through the official public docket. The final peer review report prepared by Versar, Inc. will be made available to the public. EPA has released this draft assessment for the purposes of public comment and peer review. This draft assessment is not final as described in EPA's information quality guidelines, and it does not represent and should not be construed to represent Agency policy or views.

DATES: The public peer review panel meeting will be held on August 7-8, 2012, beginning and ending at approximately 8:30 a.m. and 5:00 p.m. (AKDT) on both days.

ADDRESSES: The independent expert external peer review meeting will be held at the Dena'ina Civic & Convention Center, located at 600 West Seventh Avenue, Anchorage, Alaska.

Meeting Background: As part of the peer review process for the EPA's draft assessment report, the public portion of the peer review meeting will be held on August 7-8, 2012 at the Dena'ina Civic & Convention Center in Anchorage, Alaska. On both days, the meeting will begin at 8:30 a.m. (AKDT) and will end at approximately 5:00 p.m. (AKDT). Members of the public and any other interested parties may register to attend both days of the meeting as observers, and to offer oral testimony on the first day of the meeting.

The focus of this peer review meeting is the scientific content and merit of the EPA's draft assessment. Public speakers are encouraged to focus on issues directly relevant to science-based aspects of the assessment, and to address specific scientific points in their oral testimony. The peer review process is separate from the EPA public comment meetings held in early June that enabled members of the public to provide comments and voice opinions concerning the EPA's draft assessment report and its potential policy implications for the public docket.

Day 1 of the meeting (August 7, 2012) will be dedicated to hearing oral comments on the draft assessment. Members of the public who have registered in advance to provide oral comments will have the opportunity to speak during the observer comment session. Each speaker will be allowed between 3-5 minutes, depending on number of speakers registered. Given time constraints, a maximum of 100 speakers will be allowed to offer testimony. If more than 100 speakers register to provide oral comments, speakers will be selected by Versar in a manner designed to optimize representation from all organizations, affiliations, and present a balance of science issues relevant to the Agency's science assessment. Additional information on selection of speakers and speaking times will be sent out by August 3, to all individuals who register to speak.

To accommodate as many speakers as possible, registered speakers will present oral comments only, without visual aids or written material. All members of the public, including registered observers and speakers, are encouraged to submit written comments and materials to the official public docket for the draft assessment (docket ID number EPA-HQ-ORD- 2012-0276) by the close of the public comment period on July 23, 2012. Panel members will have access to any written comments and materials submitted to the official public docket by this deadline. Registered observers and speakers will not be allowed to distribute any written materials directly to the peer review panel. To submit written comments, please follow one of the methods outlined in the previous Federal Register notice, issued on May 25, 2012, initiating the assessment's public comment period: Federal Register Volume 77, Number 102 (http://www.gpo.gov/fdsys/pkg/FR-2012-05-25/html/2012-12808.htm).

Day 2 of the meeting (August 8, 2012) will be devoted to deliberations of the EPA's draft assessment by the peer review panel, guided by the charge questions provided to the public for public comment. Registered observers may attend and observe the peer review panel deliberations on Day 2, but will not be allowed to address the panel or provide oral or written comments.

Registration: To attend the August 7-8 public portion of the peer review meeting, you must register for the meeting by 11:59 p.m. (EDT) on July 23, 2012. You can register for the meeting by visiting http://www.versar.com/epa/bristolbayregistration.html, completing the online registration form, and submitting the required information. You can also register through U.S. Postal Service or overnight/priority mail by sending the necessary registration information (see Required Registration Information) to the Versar Meeting Coordinator, Ms. Brittany Ekstrom, Versar, Inc., 6850 Versar Center, Springfield, VA 22151; Telephone: (703) 642-6767. Registrations sent via U.S. Postal Service or overnight/priority mail must be received by 11:59 p.m. (EDT) on July 23, 2012. There will be no on-site registration, so members of the public who do not register by July 23, 2012 via one of the methods detailed above will not be able to attend the peer review meeting.

Required Registration Information: To register for the meeting online or via post, you must provide your full name, organization or affiliation, and contact information. You must also indicate which days you plan to attend the meeting and if you are interested in making an oral statement during the public comment session on Day 1 of the meeting. If you register to speak, you must also indicate if you have any special requirements related to your oral comments (e.g., translation).

If you indicate that you wish to make oral comments, you will be asked to select one category most closely reflecting the content of your comments. These comment categories are: (i) Mine scenario and operational modes; (ii) potential failures and probabilities; (iii) hydrology; (iv) toxicity; (v) potential effects on Alaska Native culture; (vi) potential effects on fish; (vii) potential effects on wildlife; and (viii) other issues. Should more than 100 speakers register, these categories will be used to ensure that a balance of substantive science issues relevant to the assessment are heard.

FOR FURTHER INFORMATION CONTACT: Questions regarding logistics or registration for the external peer review meeting should be directed to Ms. Brittany Ekstrom, Versar, Inc., 6850 Versar Center, Springfield, VA, 22151; telephone: (703) 642-6767; or via email at BEkstrom@versar.com.

SUPPLEMENTARY INFORMATION:

I. Information About the Project

The EPA conducted this assessment to determine the significance of Bristol Bay's ecological resources and evaluate the potential impacts of large-scale mining on these resources. The EPA will use the results of this assessment to inform the consideration of options consistent with its role under the Clean Water Act. The assessment is intended to provide a sound scientific and technical foundation for future decision making. The Web site that describes the project is www.epa.gov/bristolbay.

II. Information About the Peer Review Panel

The EPA released the draft assessment for the purposes of public comment and peer review on May 18, 2012. Consistent with guidelines for the peer review of highly influential scientific assessments, EPA asked a contractor (Versar, Inc.) to assemble a panel of experts to evaluate the draft report. Versar, Inc. evaluated the 68 candidates nominated during a previous public comment period (February 24, 2012 to March 16, 2012) and sought other experts to complete this peer review panel. The twelve peer review panel members were made public in EPA's previous FRN, issued on June 5, 2012. The panelist's names are included below, with corrections made to account for errors present in the June 5, 2012 FRN:

Mr. David Atkins, Watershed Environmental, LLC.—Expertise in mining and hydrology.

Mr. Steve Buckley, WHPacific—Expertise in mining and seismology.

Dr. Courtney Carothers, University of Alaska Fairbanks—Expertise in indigenous Alaskan cultures.

Dr. Dennis Dauble, Washington State University—Expertise in fisheries biology and wildlife ecology.

Dr. Gordon Reeves, USDA Pacific NW Research Station—Expertise in fisheries biology and aquatic biology.

Dr. Charles Slaughter, University of Idaho—Expertise in hydrology.

Dr. John Stednick, Colorado State University—Expertise in hydrology and biogeochemistry.

Dr. Roy Stein, Ohio State University—Expertise in fisheries and aquatic biology.

Dr. William Stubblefield, Oregon State University—Expertise in aquatic biology and ecotoxicology.

Dr. Dirk van Zyl, University of British Columbia—Expertise in mining.

Dr. Phyllis Weber Scannell—Expertise in aquatic ecology and ecotoxicology.

Dr. Paul Whitney—Expertise in wildlife ecology and ecotoxicology.

Dated: June 29, 2012.
Darrell Winner,
Acting Director, National Center for Environmental Assessment.

[FR Doc. 2012-16441 Filed 7-5-12; 8:45 am]

BILLING CODE 6560-50-P